ENVIRONMENTAL PROTECTION AGENCY

[EPA-HQ-OPP-2023-0070; FRL-10580-01-OCSPP]

Pesticide Product Registration; Receipt of Applications for New Active Ingredients January 2023

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before March 27, 2023.

ADDRESSES: Submit your comments, identified by docket identification (ID) number EPA-HQ-OPP-2023-0070, and the specific case number for the chemical substance related to your comment, through the Federal eRulemaking Portal at https://www.regulations.gov. Follow the online instructions for submitting comments. Do not submit electronically any information you consider to be Confidential Business Information (CBI) or other information whose disclosure is restricted by statute. To make special arrangements for hand delivery or delivery of boxed information, please follow the instructions at https://www.epa.gov/dockets/contacts.html. Additional instructions on commenting or visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; Anita Pease, Antimicrobials Division (AD) (7510P), main telephone number: (202) 566-0736: email address: ADFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www2.epa.gov/pesticide-registration/public-participation-process-registration-actions).

Notice of Receipt—New Active Ingredients

File Symbols: 1021-EITE, 1021-EIAO, 1021-EIAI, 1021-EITR, 1021-EITN. Docket ID number: EPA-HQ-OPP-2022-0772. Applicant: McLaughlin Gormley King Company, d/b/a MGK, 7325 Aspen Lane N Minneapolis, MN 55428. Product names: Sabadilla 10% Alkaloid Extract; MGK Formula 31422 Aerosol; MGK Formula 31421 (RTU); MGK Formula 31731 (RTU); MGK Formula 3159 [10%, 0.1%, 0.1%, 0.1%, 4.2%]. Active ingredient: Cevadine Mixture with Veratridine. Proposed classification/Use: Outdoor, non-food use; spot, crack and crevice. Contact: RD.

File Symbol: 7001-TTIL. Docket ID number: EPA-HQ-OPP-2022-0642. Applicant: JR Simplot Company, 16777 Howland Road, Lathrop, CA 95330. Product name: No Mas™. Active ingredient: Herbicide—ferrous sulfate heptahydrate at 100%. Proposed use: Non-food use for moss control on turf, lawns, and base of tree trunks. Contact: BPPD.

File Symbol: 29964-GE. Docket ID number: EPA-HQ-OPP-2022-0989. Applicant: Pioneer Hi-Bred International 8325 NW 62nd Avenue Johnston, IA 50131, USA. Product name: DP910521 Maize Insect Protected, Herbicide-Tolerant Corn. Active ingredient: Insecticide—Bacillus thuringiensis Cry1B.34 protein and the genetic material necessary (PHP79620 T-DNA) for its production in corn event DP‐91Ø521-2 at 0.04%. Proposed use: Plant-Incorporated-Protectant (PIP) for use in maize. Contact: BPPD.

File Symbol: 29964-GG. Docket ID number: EPA-HQ-OPP-2023-0018. Applicant: Pioneer Hi-Bred International, Inc., 7100 NW 62nd Avenue, P.O. Box 1000, Johnston, Iowa, 50131. Product name: DAS1131 Maize Insect Protected, Herbicide-Tolerant Corn. Active ingredient: Insecticide—Bacillus thuringiensis Cry1Da2 protein and the genetic material necessary (PHP88492 T-DNA) for its production in corn event DAS-Ø1131-3. Proposed use: Plant-Incorporated-Protectant (PIP) for use in maize. Contact: BPPD.

File Symbol: 91163-E. Docket ID number: EPA-HQ-OPP-2022-0849. Applicant: Texas Corn Producers Board, 4205 N Interstate 27, Lubbock, Texas 79403. Product name: FourSure. Active ingredients: Fungicides—Aspergillus flavus strains TC16F, TC35C, TC38B, and TC46G at 0.00024% each. Proposed use: For application to corn to displace aflatoxin-producing strains of Aspergillus flavus. Contact: BPPD.

File Symbol: 97144-G. Docket ID Number: EPA-HQ-OPP-2023-0002. Application: Reliox Corporation, 8475 Western Way, Suite 155, Jacksonville, FL 32256. Product Name: Whiff! (with ReliOx Resin). Active Ingredient: Antimicrobial—Styrene divinylbenzene and ethylstyrene copolymer, chloromethyl trimethylamine functionalized in the tribromide form (Reliox resin) at 100% nominal concentration. Proposed Use: Disinfectant and sanitizer on hard, non-porous surfaces in commercial settings. Contact: Michael Varco, AD.

Authority: 7 U.S.C. 136 et seq.

Dated: February 16, 2023.
Delores Barber,
Director, Information Technology and Resources Management Division, Office of Program Support.

[FR Doc. 2023-03748 Filed 2-22-23; 8:45 am]

BILLING CODE 6560-50-P